ENVIRONMENTAL PROTECTION AGENCY

40 CFR Part 52

[EPA-R08-OAR-2022-0536; FRL-11829-02-R8]

Air Plan Approval; Wyoming; Revisions to Regional Haze State Implementation Plan

AGENCY: Environmental Protection Agency (EPA).

ACTION: Final rule.

SUMMARY: The Environmental Protection Agency (EPA) is approving a State Implementation Plan (SIP) revision submitted by the State of Wyoming on December 30, 2022, and supplemented on August 31, 2023, and November 16, 2023, addressing regional haze for Jim Bridger Units 1 and 2 (Wyoming 2022 SIP revision). Wyoming's 2022 SIP revision provides oxides of nitrogen (NOX) emission and heat input limits that collectively allow for identical reasonable progress as part of the long term strategy during the first implementation period as the associated emission limits in the existing SIP for Jim Bridger Units 1 and 2. The EPA is also approving monthly and annual NOX and sulfur dioxide (SO2) emission limits for Jim Bridger Units 1 through 4 that were included in Wyoming's 2022 SIP revision. The EPA is taking this action pursuant to the Clean Air Act (CAA or the Act).

DATES: This rule is effective on September 8, 2025.

ADDRESSES: The EPA has established a docket for this action under Docket ID No. EPA-R08-OAR-2022-0536. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Jaslyn Dobrahner, Air and Radiation Division, EPA, Region 8, Mailcode 8P-ARD, 1595 Wynkoop Street, Denver, Colorado 80202-1129, telephone number: (303) 312-6252, email address: dobrahner.jaslyn@epa.gov.

SUPPLEMENTARY INFORMATION: Throughout this document “we,” “us,” and “our” means the EPA.

I. What is being addressed in this document?

The EPA is approving Wyoming's 2022 SIP revision addressing regional haze long term strategy for the first implementation period at Jim Bridger Units 1 and 2. As required by section 169A of the CAA, the regional haze rule (RHR) calls for state and federal agencies to work together to improve visibility in 156 national parks and wilderness areas, known as mandatory Class I Federal areas.¹ The rule requires the states, in coordination with the EPA, the National Park Service (NPS), the Fish and Wildlife Service, the Forest Service, and other interested parties, to develop and implement air quality protection plans to reduce the pollution that causes visibility impairment in mandatory Class I Federal areas. Visibility impairing pollutants include fine and coarse particulate matter (PM) (e.g., sulfates, nitrates, organic carbon, elemental carbon, and soil dust) and their precursors (e.g., SO2, NOX, and, in some cases, volatile organic compounds (VOC) and ammonia (NH3)). As discussed in further detail in our proposed rule, this document, and the accompanying Response to Comments (RTC) document, the EPA finds that Wyoming submitted a regional haze SIP revision addressing long term strategy at Jim Bridger Units 1 and 2 that meets the regional haze requirements for the first implementation period. The State's submission, the proposed rule, and the RTC document can be found in the docket for this action.

¹ See 40 CFR part 81, subpart D.

II. Background

On December 30, 2022, Wyoming submitted a revision to its SIP to address regional haze for the first implementation period for Jim Bridger, Units 1 through 4 in accordance with the requirements of the CAA's regional haze program established by CAA sections 169A and 169B and 40 CFR 51.308.²

² The State supplemented the SIP revision on August 31, 2023, and November 16, 2023.

On April 10, 2024, the EPA proposed to approve Wyoming's 2022 SIP revision which will replace the previously approved NOX emission limit of 0.07 pounds per million British Thermal Units (lb/MMBtu) (30-day rolling average) at Jim Bridger Units 1 and 2 for Wyoming's regional haze long-term strategy.³ Specifically, the Wyoming 2022 SIP revision amends the State's previously approved long-term strategy for the first regional haze implementation period and requires Jim Bridger Units 1 and 2 to meet NOX emission limits of 0.12 lb/MMBtu (30-day rolling average) and annual NOX limits of 1,314 tons/year for each unit, and a heat input limit of 21,900,000 MMBtu/year per unit by January 1, 2024. Ultimately, the Wyoming 2022 SIP revision finds the modified NOX emission and heat input limits to be sufficient for reasonable progress as part of the long-term strategy during the first implementation period in lieu of the existing emission limits associated with the installation of SCR controls approved and codified by EPA at 40 CFR 52.2636(c)(1).⁴ Wyoming also included in Wyoming's 2022 SIP revision NOX and SO2 monthly and annual emission limits for Jim Bridger Units 1-4. The Wyoming 2022 SIP revision reflects changes to Chapters 7 and 8 of Wyoming's regional haze SIP narrative ⁵ and incorporates certain conditions of Wyoming air quality permits #P0025809 and #P0036941.

³ 89 FR 25200 (April 10, 2024).

⁴ 79 FR 5032 (January 30, 2014).

⁵ State of Wyoming, “Addressing Regional Haze Visibility Protection For The Mandatory Federal Class I Areas Required Under 40 CFR 51.309,” Revised May 23, 2022 (“Wyoming 2022 SIP revision”).

Our April 10, 2024, proposed rule provided background on the requirements of the CAA and RHR, a summary of Wyoming's regional haze submittals and related EPA actions, and the EPA's rationale for its proposed action.⁶ That background and rationale will not be restated in full here; see the proposed rule preamble for details.⁷

⁶ 89 FR 25200 (April 10, 2024).

⁷ 89 FR 25200 (April 10, 2024).

III. Public Comments and EPA Responses

The public comment period on the proposal closed on May 10, 2024. During the public comment period, we received three comments on our proposal; two in support and one in opposition. The commenters were: ⁸ Idaho Power Company,⁹ NPS,¹⁰ and PacifiCorp.¹¹ The full text of comments received is included in the publicly posted docket associated with this action at https://www.regulations.gov. Our RTC document, which is also included in the docket associated with this action, provides detailed responses to all significant comments received.

⁸ We received one comment that was not related to the proposed rulemaking.

⁹ Letter dated May 10, 2024.

¹⁰ Letter dated May 7, 2024.

¹¹ Letter dated May 10, 2024.

IV. Final Action

For the reasons stated in the proposed rule, we find that the Wyoming 2022 SIP revision requiring NOX emission and heat input limits, are sufficient for reasonable progress during the first planning period and that the NOX emission limits associated with the installation of SCR controls are no longer required. Therefore, we are approving Wyoming's 2022 SIP revision for the NOX reasonable progress analysis and determination for Jim Bridger Units 1 and 2, including the associated emission and operational limitations, compliance dates, and monitoring, recordkeeping and reporting requirements as well as the separate monthly and annual NOX and SO2 emission limits. Specifically, the EPA is approving the following as federally enforceable elements of the Wyoming 2022 SIP revision for Jim Bridger Units 1-4:

• The NOX emission limits found in Wyoming air quality permit #P0036941 (Condition 9 for NOX lb/MMBtu and tons/year emission limits) for Units 1 and 2.

• The NOX and SO2 emission limits found in Wyoming air quality permit #P0025809 (Condition 7 for pounds per hour (lb/hr) and Condition 9 for tons/year) for Units 1-4.

• The operational limit on annual heat input (based on a 12-month rolling average of hourly heat input values) found in Wyoming air quality permit #P0036941 (Condition 19).

• The compliance dates found in Wyoming air quality permit #P0036941 (Conditions 11 and 16) requiring that Units 1 and 2 comply with NOX emission rates in lb/MMBtu (30-day rolling average) and tons/year as well as an annual heat input in MMBtu/year; and permit #P0025809 (Conditions 7 and 9) requiring that Units 1-4 comply with the NOX and SO2 emission limits in lb/hr and tons/year, respectively.

• The monitoring, recordkeeping and reporting requirements found in Wyoming air quality permit #P0036941 (Conditions 4, 5, 6, 10.i.1, 10.i.4, 17, 18, 19, 20, and 21) and permit #P0025809 (Condition 8.i and 9).

The approval of the above elements into the SIP will remove the 0.07 lb/MMBtu NOX (30-day rolling average) long-term emission limits for Jim Bridger Units 1 and 2 from the SIP and add the 0.12 lb/MMBtu NOX (30-day rolling average) reasonable progress emission limit and associated NOX emission and heat input limits. The 0.07 lb/MMBtu (30-day rolling average) NOX long-term strategy emission limits will remain for Units 3 and 4.

We are also approving the following non-enforceable narrative elements of the Wyoming 2022 SIP revision for:

• Jim Bridger Units 1 and 2, Chapters 7.3.6 PacifiCorp Jim Bridger Electric Generating Station of Wyoming's regional haze narrative, Addressing Regional Haze Visibility Protection For The Mandatory Federal Class I Areas Required Under 40 CFR 51.309, which contain a source-specific NOX reasonable progress analysis.

• Jim Bridger Units 1-4, Chapter 8.3.3 Long-Term Control Strategies for BART Facilities (Jim Bridger Power Plant (Units 1 and 2) only) of Wyoming's regional haze narrative, Addressing Regional Haze Visibility Protection For The Mandatory Federal Class I Areas Required Under 40 CFR 51.309, which contains (1) monthly NOX and SO2 emission limits and an annual emissions cap for NOX plus SO2; ¹² and (2) a compliance date for Units 1 and 2 to meet a NOX 30-day rolling average (lb/MMBtu), NOX annual emission cap (tons/year), and annual heat input (MMBtu/year).

¹² The revised text in Chapter 8 refers only to Jim Bridger Units 1 and 2. However, the monthly and annual NOX and SO2 emission limits contained within the permit referenced, #P0025809, apply to Units 1-4 (Wyoming 2022 SIP revision at 8).

Table 1—List of Wyoming SIP Amendments That the EPA Is Approving
Conditions of Wyoming Air Quality Permit #P0036941 the EPA is Approving
Condition 9 for NOX lb/MMBtu and tons/year emission limits; Condition 11 for fuel compliance date; Conditions 16, 19 for heat input limit and associated compliance date; and Conditions 4, 5, 6, 10.i.1, 10.i.4, 17, 18, 19, 20, and 21 for associated monitoring, recordkeeping, and reporting requirements.
Conditions of Wyoming Air Quality Permit #P0025809 the EPA is Approving
Condition 7 (lb/hr emission limits) and 9 (tons/year emission limits) for NOX and SO2 monthly-block and annual emission limits and compliance dates, and Condition 8.i for associated monitoring, recordkeeping, and reporting requirements.
Amended Sections of Wyoming Regional Haze SIP Narrative the EPA is Approving ¹
Chapter 7.3.6, Chapter 8.3.3 (Jim Bridger Power Plant (Units 1 and 2) only).
¹ Wyoming 2022 SIP revision.

V. Incorporation by Reference

In this document, the EPA is finalizing regulatory text that includes incorporation by reference. In accordance with requirements of 1 CFR 51.5, the EPA is finalizing the incorporation by reference of the operating permits for Jim Bridger Units 1 and 2 and Jim Bridger Units 1-4 described in sections II. and IV. of this preamble and set forth below in the amendments to 40 CFR part 52. The EPA has made, and will continue to make, these materials generally available through https://www.regulations.gov and at the EPA Region 8 Office (please contact the person identified in the FOR FURTHER INFORMATION CONTACT section of this preamble for more information). Therefore, these materials have been approved by the EPA for inclusion in the State Implementation Plan, have been incorporated by reference by the EPA into that plan, are fully federally enforceable under sections 110 and 113 of the CAA as of the effective date of the final rulemaking of the EPA's approval, and will be incorporated by reference in the next update to the SIP compilation.¹³

¹³ 62 FR 27968 (May 22, 1997).

VI. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, the EPA is not required to submit a rule report regarding this action under section 801.

Under section 307(b)(1) of the CAA, petitions for judicial review of this action must be filed in the United States Court of Appeals for the appropriate circuit by October 6, 2025. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Dated: August 1, 2025.
Cyrus M. Western,
Regional Administrator, Region 8.

For the reasons stated in the preamble, the Environmental Protection Agency is amending title 40 CFR part 52 as follows:

PART 52—APPROVAL AND PROMULGATION OF IMPLEMENTATION PLANS

1. The authority citation for part 52 continues to read as follows:

Authority: 42 U.S.C. 7401 et seq.

Subpart ZZ—Wyoming

2. In § 52.2620:

a. The table in paragraph (d) is amended by adding the entries “Jim Bridger Units 1 and 2” and “Jim Bridger Units 1-4” at the end of the table.

b. The table in paragraph (e) is amended by revising the entry “(25) XXV”.

The additions and revision read as follows:

§ 52.2620 Identification of plan.

* * * * *

(d) * * *

Regulation | Rule title | State effective date | EPA effective date | Final rule citation/date | Comments
* * * * * * *
Jim Bridger Units 1 and 2 | Air Quality SIP Permit containing associated requirements, P0036941 | 8/29/2023 | 9/8/2025 | 90 FR [insert Federal Register page where the document begins], 8/7/2025 | Only the following permit provisions: NOX emission limits (P0036941, condition 9 for NOX lb/MMBtu and tons/year emission limits); emission limit compliance date (P0036941, condition 11 for fuel compliance date); heat input limit and associated compliance date (P0036941, condition 16, 19); and associated monitoring, recordkeeping, and reporting requirements (P0036941, conditions 4, 5, 6, 10.i.1, 10.i.4, 17, 18, 19, 20, and 21).
Jim Bridger Units 1-4 | Air Quality SIP Permit containing additional requirements, P0025809 | 5/5/2020 | 9/8/2025 | 90 FR [insert Federal Register page where the document begins], 8/7/2025 | Only the following permit provisions: NOX and SO2 monthly-block and annual emission limits (P0025809, condition 7 for lb/hr emission limits, and P0025809, condition 9 for tons/year emission limits); emission limit compliance dates (P0025809, conditions 7 and 9); and associated monitoring, recordkeeping, and reporting requirements (P0025809, Condition 8.i).

(e) * * *

Rule No. | Rule title | State effective date | EPA effective date | Final rule citation/date | Comments
* * * * * * *
(25) XXV | Wyoming State Implementation Plan for Regional Haze for 309(g) | 5/23/2022 | 9/8/2025 | 90 FR [insert Federal Register page where the document begins], 8/7/2025 | Excluding portions of the following: Chapters 6.4, 6.5.7, 6.5.8, and 7.5. EPA disapproved (1) the NOX BART determinations for (a) Laramie River Units 1-3, (b) Dave Johnston Unit 3, and (c) Wyodak Unit 1; (2) the State's monitoring, recordkeeping, and reporting requirements for BART units; and (3) the State's reasonable progress goals.
* * * * * * *

3. In § 52.2636:

a. Revise table 1 in paragraph (c)(1).

b. Add tables 3 and 4 in numerical order in paragraph (c)(1).

c. Revise paragraph (d)(1).

The revisions and additions read as follows:

§ 52.2636 Implementation plan for regional haze.

* * * * *

(c) * * *

(1) * * *

Table 1 to § 52.2636(c)(1)
[Emission limits for BART units for which the EPA approved the state's BART and reasonable progress determinations]
Source name/BART unit | PM emission limits— lb/MMBtu | NOX emission limits— lb/MMBtu (30-day rolling average)
FMC Westvaco Trona Plant/Unit NS-1A | 0.05 | 0.35
FMC Westvaco Trona Plant/Unit NS-1B | 0.05 | 0.35
TATA Chemicals Partners (General Chemical) Green River Trona Plant/Boiler C | 0.09 | 0.28
TATA Chemicals Partners (General Chemical) Green River Trona Plant/Boiler D | 0.09 | 0.28
Basin Electric Power Cooperative Laramie River Station/Unit 1 | 0.03 | N/A
Basin Electric Power Cooperative Laramie River Station/Unit 2 | 0.03 | N/A
Basin Electric Power Cooperative Laramie River Station/Unit 3 | 0.03 | N/A
PacifiCorp Dave Johnston Power Plant/Unit 3 | 0.015 | N/A
PacifiCorp Dave Johnston Power Plant/Unit 4 | 0.015 | 0.15
PacifiCorp Jim Bridger Power Plant/Unit 1 ¹ ² | 0.03 | 0.26/0.12
PacifiCorp Jim Bridger Power Plant/Unit 2 ¹ ² | 0.03 | 0.26/0.12
PacifiCorp Jim Bridger Power Plant/Unit 3 ¹ ² | 0.03 | 0.26/0.07
PacifiCorp Jim Bridger Power Plant/Unit 4 ¹ ² | 0.03 | 0.26/0.07
PacifiCorp Naughton Power Plant/Unit 1 | 0.04 | 0.26
PacifiCorp Naughton Power Plant/Unit 2 | 0.04 | 0.26
PacifiCorp Wyodak Power Plant/Unit 1 | 0.015 | N/A
¹ The owners and operators of PacifiCorp Jim Bridger Units 1, 2, 3, and 4 shall comply with the NOX emission limit for BART of 0.26 lb/MMBtu and the PM emission limit for BART of 0.03 lb/MMBtu and other requirements of this section by March 4, 2019. The owners and operators of PacifiCorp Jim Bridger Units 1, 2, 3, and 4 shall comply with the NOX emission limit for reasonable progress of 0.12 lb/MMBtu by January 1, 2024, for Jim Bridger Units 1 and 2 and 0.07 lb/MMBtu by December 31, 2015, for Unit 3, and December 31, 2016, for Unit 4.
² Additional NOX and SO2 emissions control measures and associated compliance dates for Jim Bridger Units 1-4, are found in § 52.2636(c) tables 3 and 4.

* * * * *

Table 3 to § 52.2636(c)(1)
[NOX and SO2 emission limits for Jim Bridger units 1-4, effective January 1, 2022]
Month | Total units 1-4 NOX emission limit (monthly average basis) ¹ ² (lb/hour) | Total units 1-4 SO2 emission limit (monthly average basis) ¹ ² (lb/hour)
January | 2,050 | 2,100
February | 2,050 | 2,100
March | 2,050 | 2,100
April | 2,050 | 2,100
May | 2,200 | 2,100
June | 2,500 | 2,100
July | 2,500 | 2,100
August | 2,500 | 2,100
September | 2,500 | 2,100
October | 2,300 | 2,100
November | 2,030 | 2,100
December | 2,050 | 2,100
¹ Effective January 1, 2022, through December 31, 2023.
² In addition to monthly NOX and SO2 emission limits, an annual, plant-wide NOX plus SO2 emissions cap of 17,500 tons per year is effective January 1, 2022, through December 31, 2023.

Table 4 to § 52.2636(c)(1)
[NOX Emission limits and heat input for Jim Bridger Units 1 and 2, effective January 1, 2024]
Unit | NOX emission limit (tons/year) | Heat input (MMBtu/year)
Unit 1 | 1,314 | 21,900,000
Unit 2 | 1,314 | 21,900,000

* * * * *

(d) Compliance date. (1) The owners and operators of PacifiCorp Jim Bridger Units 1, 2, 3, and 4 shall comply with the NOX emission limit of 0.26 lb/MMBtu and PM emission limit of 0.03 lb/MMBtu and other requirements of this section by March 4, 2019. The owners and operators of PacifiCorp Jim Bridger Units 1 and 2 shall comply with the NOX emission limit of 0.12 lb/MMBtu by January 1, 2024. The owners and operators of PacifiCorp Jim Bridger Units 3 and 4 shall comply with the NOX emission limit of 0.07 lb/MMBtu by: December 31, 2015, for Unit 3, and December 31, 2016, for Unit 4. The owners and operators of PacifiCorp Jim Bridger Units 1, 2, 3, and 4 shall comply with the NOX and SO2 emission limits contained in § 52.2636(c) table 3 by January 1, 2022, through December 31, 2023. The owners and operators of PacifiCorp Jim Bridger Units 1 and 2 shall comply with NOX emission and heat input limits contained in § 52.2636(c) table 4 by January 1, 2024.

* * * * *

[FR Doc. 2025-14983 Filed 8-6-25; 8:45 am]

BILLING CODE 6560-50-P